DEPARTMENT OF VETERANS AFFAIRS

Adjustments for Service-Connected Benefits

AGENCY: Department of Veterans Affairs.

ACTION: Notice.

SUMMARY: As required by the Veterans' Compensation Cost-of-Living Adjustment Act of 2004, Public Law 108-363, the Department of Veterans Affairs (VA) is hereby giving notice of adjustments in certain benefit rates. These adjustments affect the compensation and dependency and indemnity compensation (DIC) programs.

DATES: These adjustments are effective December 1, 2004, the date provided by Public Law 108-363.

FOR FURTHER INFORMATION CONTACT: Pamela C. Liverman, Consultant, Compensation and Pension Service (212A), Veterans Benefit Administration, Department of Veterans Affairs, 810 Vermont Avenue, NW., Washington, DC 20420, (757) 858-6148, ext. 107.

SUPPLEMENTARY INFORMATION: Section 2 of Public Law 108-363 provides for an increase in each of the rates in sections 1114, 1115(1), 1162, 1311, 1313, and 1314 of title 38, United States Code. VA is required to increase these benefit rates by the same percentage as increases in the benefit amounts payable under title II of the Social Security Act. In computing increased rates in the cited title 38 sections, fractions of a dollar are rounded down to the nearest dollar. The increased rates are required to be published in the Federal Register.

The Social Security Administration has announced that there will be a 2.7 percent cost-of-living increase in Social Security benefits. Therefore, applying the same percentage, the following rates for VA compensation and DIC programs will be effective December 1, 2004:

Disability Compensation (38 U.S.C. 1114)
Disability evaluation | Monthly rate
10% | $108
20 | 210
30 | 324
40 | 466
50 | 663
60 | 839
70 | 1,056
80 | 1,227
90 | 1,380
100 | 2,299
(38 U.S.C. 1114(k) through (s))
38 U.S.C. 1114(k) | $84; $2,860; $84; 4,012
38 U.S.C. 1114(l) | 2,860
38 U.S.C. 1114(m) | 3,155
38 U.S.C. 1114(n) | 3,590
38 U.S.C. 1114(o) | 4,012
38 U.S.C. 1114(p) | 4,012
38 U.S.C. 1114(r) | 1,722; 2,564
38 U.S.C. 1114(s) | 2,573
Additional Compensation for Dependents (38 U.S.C. 1115(1))
38 U.S.C. 1115(1)(A) | 130
38 U.S.C. 1115(1)(B) | 224; $66
38 U.S.C. 1115(1)(C) | 88; $66
38 U.S.C. 1115(1)(D) | 105
38 U.S.C. 1115(1)(E) | 247
38 U.S.C. 1115(1)(F) | 207
Clothing Allowance (38 U.S.C. 1162)
$616 per year

DIC to a Surviving Spouse (38 U.S.C. 1311)
Pay grade | Monthly rate
E-1 | $993
E-2 | 993
E-3 | 993
E-4 | 993
E-5 | 993
E-6 | 993
E-7 | 1,027
E-8 | 1,084
E-9¹ | 1,131
W-1 | 1,049
W-2 | 1,091
W-3 | 1,123
W-4 | 1,188
O-1 | 1,049
O-2 | 1,084
O-3 | 1,160
O-4 | 1,227
O-5 | 1,351
O-6 | 1,523
O-7 | 1,645
O-8 | 1,805
O-9 | 1,931
O-10² | 2,118
¹ If the veteran served as sergeant major of the Army, senior enlisted advisor of the Navy, chief master sergeant of the Air Force, sergeant major of the Marine Corps, or master chief petty officer of the Coast Guard, the surviving spouse's monthly rate is $1,221.
² If the veteran served as Chairman or Vice Chairman of the Joint Chiefs of Staff, Chief of Staff of the Army, Chief of Naval Operations, Chief of Staff of the Air Force, Commandant of the Marine Corps, or Commandant of the Coast Guard, the surviving spouse's monthly rate is $2,272.

DIC to a Surviving Spouse (38 U.S.C. 1311(a) Through (d))
38 U.S.C. 1311(a) through (d) | Monthly rate
38 U.S.C. 1311(a)(1) | $993
38 U.S.C. 1311(a)(2) | 213
38 U.S.C. 1311(b) | 247
38 U.S.C. 1311(c) | 247
38 U.S.C. 1311(d) | 118

DIC to Children (38 U.S.C. 1313)
38 U.S.C. 1313 | Monthly rate
38 U.S.C. 1313(a)(1) | $421
38 U.S.C. 1313(a)(2) | 605
38 U.S.C. 1313(a)(3) | 87
38 U.S.C. 1313(a)(4) | 787; $151

Supplemental DIC to Children (38 U.S.C. 1314)
38 U.S.C. 1314 | Monthly rate
38 U.S.C. 1314(a) | $247
38 U.S.C. 1314(b) | 421
38 U.S.C. 1314(c) | 210

Dated: February 15, 2005.
Gordon H. Mansfield,
Deputy Secretary of Veterans Affairs.

[FR Doc. 05-3497 Filed 2-23-05; 8:45 am]

BILLING CODE 8320-01-P